DEPARTMENT OF TRANSPORTATION

Federal Aviation Administration

14 CFR Part 39

[Docket No. FAA-2006-25920; Directorate Identifier 2006-NM-137-AD]

RIN 2120-AA64

Airworthiness Directives; BAE Systems (Operations) Limited Model BAe 146 and Avro 146-RJ Airplanes

AGENCY: Federal Aviation Administration (FAA), Department of Transportation (DOT).

ACTION: Notice of proposed rulemaking (NPRM).

SUMMARY: The FAA proposes to adopt a new airworthiness directive (AD) for all BAE Systems (Operations) Limited Model BAe 146 and Model Avro 146-RJ airplanes. This proposed AD would require calculating the current life of each lift spoiler jack, and eventually replacing each lift spoiler jack. This proposed AD results from a review of all system components as part of the life-extension program for the affected airplanes that indicated the fatigue life limit of certain lift spoiler jacks cannot be extended from the current life limit. We are proposing this AD to prevent failure of the lift spoiler jack, and consequent increased drag and uncommanded roll inputs, which could reduce the flightcrew's ability to control the airplane.

DATES: We must receive comments on this proposed AD by October 30, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact British Aerospace Regional Aircraft American Support, 13850 Mclearen Road, Herndon, Virginia 20171, for service information identified in this proposed AD.

FOR FURTHER INFORMATION CONTACT: Todd Thompson, Aerospace Engineer, International Branch, ANM-116, FAA, Transport Airplane Directorate, 1601 Lind Avenue, SW., Renton, Washington 98057-3356; telephone (425) 227-1175; fax (425) 227-1149.

SUPPLEMENTARY INFORMATION:

Comments Invited

We invite you to submit any relevant written data, views, or arguments regarding this proposed AD. Send your comments to an address listed in the ADDRESSES section. Include the docket number “FAA-2006-25920; Directorate Identifier 2006-NM-137-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The European Aviation Safety Agency (EASA), which is the airworthiness authority for the European Union, notified us that an unsafe condition may exist on all BAE Systems (Operations) Limited Model BAe 146 and Model Avro 146-RJ airplanes. The EASA advises that the life limit of the affected airplanes ranges from 40,000 flight cycles to 50,000 flight cycles, depending on the airplane variant. The manufacturer has conducted a review of all system components as part of a program to extend the life limit beyond 40,000 to 50,000 flight cycles. This program established that the fatigue life of the lift spoiler jacks, part numbers (P/Ns) P308-45-0002, P308-45-0102, and P308-45-0202, cannot be extended beyond the current life limit of 55,000 flight cycles for that part. Therefore, the lift spoiler jacks must be replaced in order for the life limit of the affected airplanes to be extended. This condition, if not corrected, could result in failure of the lift spoiler jack, and consequent increased drag and uncommanded roll inputs, which could reduce the flightcrew's ability to control the airplane.

Relevant Service Information

BAE Systems (Operations) Limited has issued Modification Service Bulletin ISB.27-178, dated January 14, 2005. Modification Service Bulletin ISB.27-178 describes procedures for calculating the current life of each lift spoiler jack with an affected P/N. Modification Service Bulletin ISB.27-178 also describes procedures for replacing each P/N P308-45-0002 and -0102 lift spoiler jack with a serviceable unit before the part reaches its life limit. The procedures for calculating the current life depend on whether or not complete component utilization records exist:

• If complete records exist, calculate the life limits using those records.

• If complete records do not exist, calculate the theoretical life in conjunction with Appendix 2 of Modification Service Bulletin ISB.27-178.

Accomplishing the actions specified in the service information is intended to adequately address the unsafe condition. The EASA mandated the service information and issued EASA airworthiness directive 2006-0138, dated May 23, 2006, to ensure the continued airworthiness of these airplanes in the European Union.

Modification Service Bulletin ISB.27-178 refers to the following:

• BAE Systems (Operations) Limited Modification Service Bulletin SB.27-179-70675A, dated January 19, 2005, as an additional source of service information for replacing lift spoiler jacks having P/N P308-45-0002 and -0102.

• BAE Systems (Operations) Limited Inspection ISB.05-005, Revision 1, dated June 9, 2005, as an additional source of service information for calculating the theoretical life when complete utilization records do not exist.

• Smiths Service Newsletter P308-27-003, dated March 12, 2004, as an additional source of service information for resolving anomalies with the P/Ns.

FAA's Determination and Requirements of the Proposed AD

These airplane models are manufactured in the United Kingdom and are type certificated for operation in the United States under the provisions of section 21.29 of the Federal Aviation Regulations (14 CFR 21.29) and the applicable bilateral airworthiness agreement. Pursuant to this bilateral airworthiness agreement, the EASA has kept the FAA informed of the situation described above. We have examined the EASA's findings, evaluated all pertinent information, and determined that we need to issue an AD for airplanes of this type design that are certificated for operation in the United States.

Therefore, we are proposing this AD, which would require accomplishing the actions specified in the service information described previously.

Costs of Compliance

The following table provides the estimated costs for U.S. operators to comply with this proposed AD.

Estimated Costs
Action | Work hours | Average labor rate per hour | Parts | Cost per airplane | Number of U.S.-registered airplanes | Fleet cost
Determine the life of each lift spoiler jack | 1 | $80 | None | $80 | 53 | $4,240
Replace each lift spoiler jack (6 per airplane) | 6 | 80 | $102,000 | 102,480 | 53 | 5,431,440

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Bae Systems (Operations) Limited (Formerly British Aerospace Regional Aircraft): Docket No. FAA-2006-25920; Directorate Identifier 2006-NM-137-AD.

Comments Due Date

(a) The FAA must receive comments on this AD action by October 30, 2006.

Affected ADs

(b) None.

Applicability

(c) This AD applies to the airplanes specified in paragraphs (c)(1) and (c)(2) of this AD, certificated in any category, having lift spoiler jacks with part number (P/N) P308-45-0002, P308-45-0102, or P308-45-0202.

(1) All BAE Systems (Operations) Limited Model BAe 146-100A, -200A, and -300A series airplanes.

(2) All Model Avro 146-RJ70A, 146-RJ85A, and 146-RJ100A airplanes.

Unsafe Condition

(d) This AD results from a review of all system components as part of the life-extension program for the affected airplanes that indicated the fatigue life of certain lift spoiler jacks cannot be extended from the current life limit. We are issuing this AD to prevent failure of the lift spoiler jack, and consequent increased drag and uncommanded roll inputs, which could reduce the flightcrew's ability to control the airplane.

Compliance

(e) You are responsible for having the actions required by this AD performed within the compliance times specified, unless the actions have already been done.

Calculating the Life Limit

(f) Within 18 months after the effective date of this AD: Calculate the current life of each lift spoiler jack in accordance with the Accomplishment Instructions of BAE Systems (Operations) Limited Modification Service Bulletin ISB.27-178, dated January 14, 2005.

Note 1: BAE Systems (Operations) Limited Modification Service Bulletin ISB.27-178 refers to the service information listed in Table 1 of this AD as additional sources of service information for the actions in paragraphs (f) and (g) of this AD.

Table 1.—Additional Sources of Service Information
This service document— | Is an additional source of service information for—
BAE Systems (Operations) Limited Modification Service Bulletin SB.27-179-70675A, dated January 19, 2005 | Replacing lift spoiler jacks having P/N P308-45-0002 and 0102.
BAE Systems (Operations) Limited Inspection Service Bulletin ISB.05-005, Revision 1, dated June 9, 2005 | Calculating the theoretical life when complete utilization records do not exist.
Smiths Service Newsletter P308-27-003, dated March 12, 2004 | Resolving anomalies with the P/Ns.

Replacement

(g) Within 18 months after the effective date of this AD or before the accumulation of 55,000 total flight cycles on the lift spoiler jack, whichever occurs later: Replace each P/N P308-45-0002, P308-45-0102, or P308-45-0202 lift spoiler jack with a serviceable unit in accordance with the Accomplishment Instructions of BAE Systems (Operations) Limited Modification Service Bulletin ISB.27-178, dated January 14, 2005. Thereafter, replace each lift spoiler jack with a serviceable unit at intervals not to exceed 55,000 flight cycles.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) European Aviation Safety Agency airworthiness directive 2006-0138, dated May 23, 2006, also addresses the subject of this AD.

Issued in Renton, Washington, on September 20, 2006.
Ali Bahrami,
Manager, Transport Airplane Directorate, Aircraft Certification Service.

[FR Doc. E6-15948 Filed 9-27-06; 8:45 am]

BILLING CODE 4910-13-P